DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2022, through July 31, 2022. This list provides the name of petitioner, city and state of vaccination (if unknown then city and state of person or attorney filing claim), and case number. In cases where the Court has redacted the name of a petitioner and/or the case number, the list reflects such redaction. Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. James Shapouri, Valencia, California, Court of Federal Claims No: 22-0736V

2. Christopher D. Beckner, Salem, Virginia, Court of Federal Claims No: 22-0737V

3. Beatrice Cain, Helotes, Texas, Court of Federal Claims No: 22-0739V

4. Kristin Burger on behalf of S. B., Harrodsburg, Kentucky, Court of Federal Claims No: 22-0740V

5. Rita Martins on behalf of Z. M., Phoenix, Arizona, Court of Federal Claims No: 22-0742V

6. Douglas Pierce, Dartmouth, Massachusetts, Court of Federal Claims No: 22-0743V

7. Jonathan McWaters on behalf of D. M., Phoenix, Arizona, Court of Federal Claims No: 22-0744V

8. Nadia Baksh, Phoenix, Arizona, Court of Federal Claims No: 22-0746V

9. Susan Demilt, Manahawkin, New Jersey, Court of Federal Claims No: 22-0747V

10. Annalyse Treat, Reading, Pennsylvania, Court of Federal Claims No: 22-0748V

11. Kerry Ann Fletcher, Wilmington, Delaware, Court of Federal Claims No: 22-0752V

12. Megan Hydutsky, Phoenixville, Pennsylvania, Court of Federal Claims No: 22-0753V

13. Jeffrey Struiksma, Tukwila, Washington, Court of Federal Claims No: 22-0754V

14. Michael Smith, Boston, Massachusetts, Court of Federal Claims No: 22-0757V

15. Cole Henshaw, Boston, Massachusetts, Court of Federal Claims No: 22-0758V

16. Jeannie Delacour, Seattle, Washington, Court of Federal Claims No: 22-0759V

17. John Fallstead, Mountain View, California, Court of Federal Claims No: 22-0760V

18. Charles Tillman, Pittsburgh, Pennsylvania, Court of Federal Claims No: 22-0762V

19. Melissa McCall, Baltimore, Maryland, Court of Federal Claims No: 22-0763V

20. Eliza Welder, Victoria, Texas, Court of Federal Claims No: 22-0764V

21. Sherrie Nguyen on behalf of N. N., Auburn, Washington, Court of Federal Claims No: 22-0765V

22. Debra Powers, Dresher, Pennsylvania, Court of Federal Claims No: 22-0766V

23. Marni Schmidt, New York, New York, Court of Federal Claims No: 22-0772V

24. Steven Santineau and Melinda Santineau on behalf of E. S., Boston, Massachusetts, Court of Federal Claims No: 22-0773V

25. Mary M. Wyckoff, Sacramento, California, Court of Federal Claims No: 22-0774V

26. James Tyree, Seattle, Washington, Court of Federal Claims No: 22-0776V

27. Andrew Eberling, Marlton, New Jersey, Court of Federal Claims No: 22-0778V

28. Tammy Wilcoxon on behalf of A. T., Phoenix, Arizona, Court of Federal Claims No: 22-0779V

29. Melanie Fata, Peoria, Illinois, Court of Federal Claims No: 22-0781V

30. Valerie Allen on behalf of K. A., Phoenix, Arizona, Court of Federal Claims No: 22-0783V

31. Janelle Hill, Madison, Wisconsin, Court of Federal Claims No: 22-0785V

32. Brian Bugge, New York, New York, Court of Federal Claims No: 22-0786V

33. David Mosher, Portland, Maine, Court of Federal Claims No: 22-0788V

34. Jennifer Nolte on behalf of C. W., Phoenix, Arizona, Court of Federal Claims No: 22-0789V

35. Leroy Alston, Boston, Massachusetts, Court of Federal Claims No: 22-0790V

36. Carole Hillard, West Reading, Pennsylvania, Court of Federal Claims No: 22-0791V

37. Marco DeLeon, Anaheim, California, Court of Federal Claims No: 22-0792V

38. Craig Mendenhall, Greenville, Ohio, Court of Federal Claims No: 22-0793V

39. Lesley Koski, Hancock, Michigan, Court of Federal Claims No: 22-0794V

40. Warren Erbsen, Denver, Colorado, Court of Federal Claims No: 22-0795V

41. Gerry Scott, Overland Park, Kansas, Court of Federal Claims No: 22-0796V

42. Allison Conine, Boston, Massachusetts, Court of Federal Claims No: 22-0799V

43. Daniel Lefkowitz, New York, New York, Court of Federal Claims No: 22-0801V

44. Tammy Zollman, Phoenix, Arizona, Court of Federal Claims No: 22-0802V

45. Braelyn Caton Cates, Phoenix, Arizona, Court of Federal Claims No: 22-0803V

46. Mark Hernandez, York, Pennsylvania, Court of Federal Claims No: 22-0805V

47. Meliss Langert, Fairfax, Virginia, Court of Federal Claims No: 22-0809V

48. Katherine Nottenburg, New York City, New York, Court of Federal Claims No: 22-0810V

49. Humberto Donato-Brugueras, San Juan, Puerto Rico, Court of Federal Claims No: 22-0812V

50. Herminio L. Irizarry, Miami, Florida, Court of Federal Claims No: 22-0813V

51. Jerry Roberts, Hodges, South Carolina, Court of Federal Claims No: 22-0817V

52. Scott Chovanec, Boston, Massachusetts, Court of Federal Claims No: 22-0818V

53. Jaclyn Vanacore, New Fairfield, Connecticut, Court of Federal Claims No: 22-0819V

54. Joseph Schmucker, Warner Robins, Georgia, Court of Federal Claims No: 22-0822V

55. Patti Paez, Hoffman Estates, Illinois, Court of Federal Claims No: 22-0823V

56. Jonathan Simpson, New York, New York, Court of Federal Claims No: 22-0825V

57. Phillip R. Sims, Boca Raton, Florida, Court of Federal Claims No: 22-0826V

58. Benjamin Gootee, New Orleans, Louisiana, Court of Federal Claims No: 22-0827V

59. John Marlowe and Pasha Marlowe on behalf of J. M., Phoenix, Arizona, Court of Federal Claims No: 22-0829V

60. Osmyn Lavor Deuel, St. George, Utah, Court of Federal Claims No: 22-0830V

61. Steven Mills on behalf of Barbara Mills, Deceased, San Mateo, California, Court of Federal Claims No: 22-0831V

[FR Doc. 2022-18632 Filed 8-29-22; 8:45 am]

BILLING CODE 4165-15-P